NATIONAL FOUNDATION ON THE ARTS AND THE HUMANITIES

Meetings of Humanities Panel

AGENCY: National Endowment for the Humanities.

ACTION: Notice of meetings.

SUMMARY: The National Endowment for the Humanities will hold twenty-four meetings of the Humanities Panel, a federal advisory committee, during March, 2017. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: March 7, 2017.

This meeting will discuss applications on the subjects of Philosophy and Religion for the Scholarly Editions and Translations grant program, submitted to the Division of Research Programs.

2. Date: March 7, 2017.

This meeting will discuss applications for the Humanities Initiatives at Community Colleges grant program, submitted to the Division of Education Programs.

3. Date: March 8, 2017.

This meeting will discuss applications for the Humanities Initiatives at Community Colleges grant program, submitted to the Division of Education Programs.

4. Date: March 8, 2017.

This meeting will discuss applications on the subject of American History for the Scholarly Editions and Translations grant program, submitted to the Division of Research Programs.

5. Date: March 9, 2017.

This meeting will discuss applications on the subjects of World History and Literature for the Scholarly Editions and Translations grant program, submitted to the Division of Research Programs.

6. Date: March 9, 2017.

This meeting will discuss applications for the Humanities Initiatives at Community Colleges grant program, submitted to the Division of Education Programs.

7. Date: March 13, 2017.

This meeting will discuss applications for the Humanities Initiatives at Community Colleges grant program, submitted to the Division of Education Programs.

8. Date: March 14, 2017.

This meeting will discuss applications on the subjects of World History and Literature for the Scholarly Editions and Translations grant program, submitted to the Division of Research Programs.

9. Date: March 15, 2017.

This meeting will discuss applications on the subject of the Arts for the Collaborative Research grant program, submitted to the Division of Research Programs.

10. Date: March 16, 2017.

This meeting will discuss applications on the subjects of World History and Literature for the Collaborative Research grant program, submitted to the Division of Research Programs.

11. Date: March 21, 2017.

This meeting will discuss applications on the subject of Philosophy for the Collaborative Research grant program, submitted to the Division of Research Programs.

12. Date: March 21, 2017.

This meeting will discuss applications on the subjects History and Culture for Media Projects: Development Grants, submitted to the Division of Public Programs.

13. Date: March 22, 2017.

This meeting will discuss applications on the subject of Native American History for the Public Humanities Projects—Exhibitions grant program (planning grants), submitted to the Division of Public Programs.

14. Date: March 22, 2017.

This meeting will discuss applications on the subjects of American and British Literature for the Scholarly Editions and Translations grant program, submitted to the Division of Research Programs.

15. Date: March 23, 2017.

This meeting will discuss applications on the subject of Art History for the Public Humanities Projects—Exhibitions grant program (implementation grants), submitted to the Division of Public Programs.

16. Date: March 23, 2017.

This meeting will discuss applications on the subject of Old World Archaeology for the Collaborative Research grant program, submitted to the Division of Research Programs.

17. Date: March 24, 2017.

This meeting will discuss applications on the subject of African American History for the Public Humanities Projects—Exhibitions grant program (planning grants), submitted to the Division of Public Programs.

18. Date: March 27, 2017.

This meeting will discuss applications on the subject of U.S. History for the Public Humanities Projects—Exhibitions grant program (implementation grants), submitted to the Division of Public Programs.

19. Date: March 28, 2017.

This meeting will discuss applications on the subjects of International History and Culture for Media Projects: Development Grants, submitted to the Division of Public Programs.

20. Date: March 28, 2017.

This meeting will discuss applications on the subjects of New World and Asian Archaeology for the Collaborative Research grant program, submitted to the Division of Research Programs.

21. Date: March 28, 2017.

This meeting will discuss applications on the subject of Tribal Collections for the Sustaining Cultural Heritage Collections grant program, submitted to the Division of Preservation and Access.

22. Date: March 29, 2017.

This meeting will discuss applications on the subjects of History and Social Science for the Collaborative Research grant program, submitted to the Division of Research Programs.

23. Date: March 30, 2017.

This meeting will discuss applications on the subjects of Museums, Historic Houses, and Material Culture for the Sustaining Cultural Heritage Collections grant program, submitted to the Division of Preservation and Access.

24. Date: March 30, 2017.

This meeting will discuss applications on the subject of History for Media Projects: Development Grants, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: February 13, 2017.
Elizabeth Voyatzis,
Committee Management Officer.

[FR Doc. 2017-03191 Filed 2-16-17; 8:45 am]

BILLING CODE 7536-01-P